DEPARTMENT OF ENERGY

Federal Energy Regulatory Commission

[Docket No. CP09-10-000]

Dominion Transmission, Inc.; Notice of Intent To Prepare an Environmental Assessment for the Proposed Rural Valley Project, Request for Comments on Environmental Issues

November 17, 2008.

The staff of the Federal Energy Regulatory Commission (FERC or Commission) will prepare an environmental assessment (EA) that will discuss the environmental impacts of the Rural Valley Project involving construction and operation of facilities by Dominion Transmission, Inc. (DTI) in Armstrong, Westmoreland, Elk and McKean Counties, PA.¹ These facilities would consist of about 1.40 miles of various diameter pipeline, 57,500 horsepower (hp) of compression and four new Metering and Regulation (M&R) stations. This EA will be used by the Commission in its decision-making process to determine whether the project is in the public convenience and necessity.

¹ On October 15, 2008, DTI filed its application with the Commission under section 7 of the Natural Gas Act and Part 157 of the Commission's regulations. The Commission issued its Notice of Application on October 27, 2008.

If you are a landowner receiving this notice, you may be contacted by a DTI company representative about survey permission and/or the acquisition of an easement to construct, operate, and maintain the proposed facilities. The company would seek to negotiate a mutually acceptable agreement. However, if the project is approved by the Commission, that approval conveys with it the right of eminent domain. Therefore, if easement negotiations fail to produce an agreement, the natural gas company could initiate condemnation proceedings in accordance with state law.

A fact sheet prepared by the FERC entitled “An Interstate Natural Gas Facility On My Land? What Do I Need To Know?” was attached to the project notice DTI provided to landowners. This fact sheet addresses a number of typically asked questions, including the use of eminent domain and how to participate in the Commission's proceedings. It is available for viewing on the FERC Internet Web site (http://www.ferc.gov).

Summary of the Proposed Project

DTI proposes to create a firm transportation outlet for natural gas supplies in western Pennsylvania by providing 57,500 dekatherms per day from multiple locations along lines LN-19 and LN-20 to an existing interconnect with Texas Eastern Transmission. DTI seeks authority to:

• Install a compressor station, consisting of two high speed reciprocating gas compressor units, one 1,775 unit hp and one 3,550 hp unit, totaling 5,325 hp, known as the Rural Valley Compressor Station, located approximately three miles west of Rural Valley, PA;

• Install 1.08 miles of 10-inch-diameter pipeline interconnecting Dominion People's Line TP-7625 with DTI's new Rural Valley Compressor Station;

• Install 0.02 mile of 10-inch-diameter pipeline interconnecting DTI's LN-19 with the new compressor station;

• Install 0.30 mile of 8-inch-diameter discharge pipeline connecting the compressor station to DTI's LN-50X3;

• Install a new M&R station (Rural Valley) adjacent to the Rural Valley Compressor Station in Armstrong County, PA;

• Install a pig launcher and receiver adjacent to the Rural Valley M&R station;

• Install a new M&R station (Oakford) within the existing Oakford Compressor Station boundary in Westmoreland County, PA;

• Install a new M&R station (National Forest) located on a former M&R site adjacent to the LN-20 right-of-way (ROW) in Elk County, PA; and

• Install a new M&R station (Big Springs), located at an existing pig launcher location adjacent to the LN-20 ROW in McKean County, PA.

The general location of the project facilities is shown in Appendix 1.²

² The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary, refer to the last page of this notice. Copies of the appendices were sent to all those receiving this notice in the mail.

Land Requirements for Construction

Project activities will occur on property that will be purchased by DTI from private landowners who adjoin the property of the proposed compressor and M&R station sites in Armstrong County, property already owned by DTI, and land to be leased from the Alleghany National Forest and the Commonwealth of PA, Bureau of Forestry. Construction of the proposed aboveground facilities would impact about 7.0 acres of land. Following construction, approximately 6.4 acres would be maintained for operation. The remaining 0.6 acres of land would be restored and allowed to revert to its former use. Construction of the proposed pipelines would impact about 15.3 acres of land. Following construction, approximately 8.35 acres of land would be maintained for operation. The remaining 6.95 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Geology and soils

• Land use

• Water resources, fisheries, and wetlands

• Cultural resources

• Vegetation and wildlife

• Air quality and noise

• Endangered and threatened species

• Hazardous waste

• Public safety

We will also evaluate reasonable alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by DTI. This preliminary list of issues may be changed based on your comments and our analysis.

• Proposed right-of-way width and configuration.

• Impacts on 8.6 acres of agricultural land, including a total of 3.2 acres of prime farmland soils.

• Impacts of air and noise emissions.

Public Participation

You can make a difference by providing us with your specific comments or concerns about the Rural Valley Project. Your comments should focus on the potential environmental effects of the proposal, reasonable alternatives, and measures to avoid or lessen the environmental impacts. The more specific your comments, the more useful they will be. To ensure that your comments are timely and properly recorded, please send in your comments so that they will be received in Washington, DC on or before December 18, 2008.

For your convenience, there are three methods which you can use to submit your comments to the Commission. In all instances please reference the project docket number with your submission. The docket number can be found on the front of this notice. The Commission encourages electronic filing of comments and has dedicated eFiling expert staff available to assist you at (202) 502-8258 or eFiling@ferc.gov.

(1) You may file your comments electronically by using the Quick Comment feature, which is located on the Commission's internet Web site at http://www.ferc.gov under the link to Documents and Filings. A Quick Comment is an easy method for interested persons to submit text-only comments on a project.

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister”. You will be asked to select the type of filing you are making. A comment on a particular project is considered a “Comment on a Filing.”

(3) You may file your comments via mail to the Commission by sending an original and two copies of your letter to: Kimberly D. Bose, Secretary, Federal Energy Regulatory Commission, 888 First Street, NE., Room 1A, Washington, DC 20426.

Label one copy of the comments for the attention of Gas Branch 3, PJ11.3.

Becoming an Intervenor

In addition to involvement in the EA scoping process, you may want to become an official party to the proceeding, or “intervenor”. To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

As described above, we may publish and distribute the EA for comment. If you are interested in receiving an EA for review and/or comment, please return the Environmental Mailing List Form (Appendix 3). If you do not return the Environmental Mailing List Form, you will be taken off the mailing list. All individuals who provide written comments will remain on our environmental mailing list for this project.

Additional Information

Additional information about the project is available from the Commission's Office of External Affairs, at 1-866-208-FERC or on the FERC Internet Web site (http://www.ferc.gov) using the eLibrary link. Click on the eLibrary link, click on “General Search” and enter the docket number, (CP09-10-000), excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E8-27691 Filed 11-20-08; 8:45 am]

BILLING CODE 6717-01-P